DEPARTMENT OF TRANSPORTATION

Federal Aviation Administration

14 CFR Part 39

[Docket No. FAA-2005-20869; Directorate Identifier 2004-NM-09-AD; Amendment 39-14139; AD 2005-13-03]

RIN 2120-AA64

Airworthiness Directives; AvCraft Dornier Model 328-100 and -300 Airplanes

AGENCY: Federal Aviation Administration (FAA), Department of Transportation (DOT).

ACTION: Final rule.

SUMMARY: The FAA is adopting a new airworthiness directive (AD) for certain AvCraft Dornier Model 328-100 and -300 airplanes. This AD requires operators to install colored identification strips on the pulley brackets, fairlead bracket assemblies, operational assemblies, and flight control cables. This AD is prompted by a report that the flight control systems do not have elements that are distinctively identified. We are issuing this AD to prevent the incorrect re-assembly of the flight control system during maintenance, which could result in reduced controllability of the airplane.

DATES: This AD becomes effective July 26, 2005.

The incorporation by reference of certain publications listed in the AD is approved by the Director of the Federal Register as of July 26, 2005.

ADDRESSES: For service information identified in this AD, contact AvCraft Aerospace GmbH, P.O. Box 1103, D-82230 Wessling, Germany.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20869; the directorate identifier for this docket is 2004-NM-09-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR part 39 with an AD for certain AvCraft Dornier Model 328-100 and -300 airplanes. That action, published in the Federal Register on April 6, 2005 (70 FR 17370), proposed to require operators to install colored identification strips on the pulley brackets, fairlead bracket assemblies, operational assemblies, and flight control cables.

Comments

We provided the public the opportunity to participate in the development of this AD. No comments have been submitted on the proposed AD or on the determination of the cost to the public.

Explanation of Change to Applicability

We have revised the applicability of the proposed AD to identify model designations as published in the most recent type certificate data sheet for the affected models.

Conclusion

We have carefully reviewed the available data and determined that air safety and the public interest require adopting the AD with the change described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.- registered airplanes | Fleet cost
Installation | 16 | $65 | $291 | $1,331 | 112 | $149,072

The following table provides the estimated costs for operators to comply with this AD if they have airplanes that are subject to the concurrent requirements.

Estimated Costs—Concurrent Requirements
Concurrent Dornier Service Bulletin | Work hours | Average labor rate per hour | Parts | Cost per airplane
SB-328-27-290 | 5 | $65 | Operator Supplied | $325
SB-328-27-291 | 5 | 65 | Operator Supplied | 325
SB-328-27-292 | 5 | 65 | Operator Supplied | 325
SB-328J-27-035 | 5 | 65 | $462 | 787
SB-328J-27-036 | 5 | 65 | 578 | 903
SB-328J-27-037 | 5 | 65 | Operator Supplied | $325

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-13-03 AvCraft Aerospace Gmbh (Formerly Fairchild Dornier GmbH): Amendment 39-14139. Docket No. FAA-2005-20869; Directorate Identifier 2004-NM-09-AD.

Effective Date

(a) This AD becomes effective July 26, 2005.

Affected ADs

(b) None.

Applicability

(c) This AD applies to AvCraft Dornier Model 328-100 and -300 series airplanes, certificated in any category; as identified in Dornier Service Bulletin SB-328J-27-176, Revision 1, dated April 15, 2003; and Dornier Service Bulletin SB-328-27-436, Revision 1, dated April 15, 2003; as applicable.

Unsafe Condition

(d) This AD was prompted by a report that the flight control systems do not have elements that are distinctively identified. We are issuing this AD to prevent the incorrect re-assembly of the flight control system during maintenance, which could result in reduced controllability of the airplane.

Compliance

(e) You are responsible for having the actions required by this AD performed within the compliance times specified, unless the actions have already been done.

Installation

(f) Within 24 months after the effective date of this AD, install colored identification strips on the pulley brackets, fairlead bracket assemblies, operational assemblies, and flight control cables, in accordance with the Accomplishment Instructions of Dornier Service Bulletin SB-328J-27-176, Revision 1, dated April 15, 2003; or Dornier Service Bulletin SB-328-27-436, Revision 1, dated April 15, 2003; as applicable.

Prior or Concurrent Requirements

(g) Prior to or concurrently with the accomplishment of the actions in paragraph (f) of this AD, accomplish the actions in the applicable service bulletins listed in Table 1 of this AD.

Table 1.—Prior or Concurrent Requirements
Model | Dornier Service Bulletin | Revision | Date | Action
328-100 airplanes | SB-328-27-290 | 1 | December 8, 2000 | Relocate the auto-pilot rudder servo.
| SB-328-27-291 | 1 | December 8, 2000 | Relocate the auto-pilot aileron servo.
| SB-328-27-292 | 1 | December 8, 2000 | Relocate the auto pilot elevator servo.
328-300 airplanes | SB-328J-27-035 | Original | April 25, 2000 | Relocate the auto-pilot rudder servo.
| SB-328J-27-036 | Original | April 25, 2000 | Relocate the auto-pilot elevator servo.
| SB-328J-27-037 | Original | April 25, 2000 | Relocate the auto-2000 pilot aileron servo.

Alternative Methods of Compliance (AMOCs)

(h) The Manager, International Branch, ANM-116, Transport Airplane Directorate, FAA, has the authority to approve AMOCs for this AD, if requested in accordance with the procedures found in 14 CFR 39.19.

Related Information

(i) German airworthiness directive 2003-376, effective November 11, 2003; and German airworthiness directive 2003-377, effective November 11, 2003; also address the subject of this AD.

Material Incorporated by Reference

(j) You must use the applicable service bulletins in Table 2 of this AD to perform the actions that are required by this AD, unless the AD specifies otherwise. The Director of the Federal Register approves the incorporation by reference of these documents in accordance with 5 U.S.C. 552(a) and 1 CFR part 51. To get copies of the service information, contact AvCraft Aerospace GmbH, P.O. Box 1103, D-82230 Wessling, Germany. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Table 2.—Material Incorporated by Reference
Dornier service bulletin | Revision level | Date
SB-328-27-290 | 1 | December 8, 2000.
SB-328-27-291 | 1 | December 8, 2000.
SB-328-27-292 | 1 | December 8, 2000.
SB-328-27-436 | 1 | April 15, 2003.
SB-328J-27-035 | Original | April 25, 2000.
SB-328J-27-036 | Original | April 25, 2000.
SB-328J-27-037 | Original | April 25, 2000.
SB-328J-27-176 | 1 | April 15, 2003.

Issued in Renton, Washington, on June 10, 2005.
Michael J. Kaszycki,
Acting Manager, Transport Airplane Directorate,Aircraft Certification Service.

[FR Doc. 05-12001 Filed 6-20-05; 8:45 am]

BILLING CODE 4910-13-P